DEPARTMENT OF DEFENSE

Department of the Navy

Meeting of the Chief of Naval Operations (CNO) Executive Panel

AGENCY: Department of the Navy, DoD.

ACTION: Notice of closed meeting.

SUMMARY: The CNO Executive Panel will report on the findings and recommendations of the Executive Decision Making Subcommittee to the CNO. The meeting will consist of discussions of the current decision making processes of the U.S. Navy's senior leaders.

DATES: The meeting will be held on February 8, 2007, from 10 a.m. to 11:30 a.m.

ADDRESSES: The meeting will be held in the Center for Naval Analysis Corporation Building, 4825 Mark Center Drive, Alexandria, VA 22311, Room 1A01.

FOR FURTHER INFORMATION CONTACT: LCDR Lester Brown, CNO Executive Panel, 4825 Mark Center Drive, Alexandria, VA 22311, 703-681-4939.

SUPPLEMENTARY INFORMATION: Pursuant to the provisions of the Federal Advisory Committee Act (5 U.S.C. App. 2), these matters constitute sensitive information that is specifically authorized by Executive Order to be kept secret. Accordingly, the Secretary of the Navy has determined in writing that the public interest requires that all sessions of this meeting be closed to the public because they will be concerned with matters listed in section 552b(c)(1) of title 5, United States Code.

Dated: January 22, 2007.
M.A. Harvison,
Lieutenant Commander, Judge Advocate General's Corps, U.S. Navy, Federal Register Liaison Officer.

[FR Doc. E7-1325 Filed 1-26-07; 8:45 am]

BILLING CODE 3810-FF-P